DEPARTMENT OF COMMERCE

National Oceanic and Atmospheric Administration

RIN 0648-XA136

Western Pacific Fishery Management Council; Public Meetings

AGENCY: National Marine Fisheries Service (NMFS), National Oceanic and Atmospheric Administration (NOAA), Commerce.

ACTION: Notice of a public meeting.

SUMMARY: The Western Pacific Fishery Management Council (Council) will hold a meeting of the Pacific Pelagics Fishery Ecosystem Plan (FEP) Plan Team (PT) to discuss fishery management issues and develop recommendations to the Council for future management of pelagic fisheries in the Western Pacific region.

DATES: The Pelagic PT will be held on May 6-8, 2020. For specific times and agendas, see SUPPLEMENTARY INFORMATION.

ADDRESSES: The meetings will be held by web conference. Audio and visual portions of the web conference can be accessed at: https://wprfmc.webex.com/join/info.wpcouncilnoaa.gov. Web conference access information will also be posted on the Council's website at www.wpcouncil.org. For assistance with the web conference connection, contact the Council office at (808) 522-8220.

FOR FURTHER INFORMATION CONTACT: Kitty M. Simonds, Executive Director, Western Pacific Fishery Management Council; telephone (808) 522-8220.

SUPPLEMENTARY INFORMATION: The Pelagic PT meeting will be held on May 6-8, 2020, and run each day from 1 p.m. to 5 p.m. Hawaii Standard Time (HST) (12 p.m. to 4 p.m. Samoa Standard Time (SST); 9 a.m. to 1 p.m. on May 7-9, 2020, Chamorro Standard Time (ChST)). Public comment periods will be provided in the agenda. The order in which agenda items are addressed may change. The meetings will run as late as necessary to complete scheduled business.

Agenda for the Pelagic Plan Team Meeting

Wednesday, May 6, 2020, 1 p.m. to 5 p.m. HST (12 p.m. to 4 p.m. SST; Thursday, May 7, 2020, 9 a.m. to 1 p.m. ChST)

1. Welcome and Introductions

2. Approval of Draft Agenda, 2018 Report, and Assignment of Rapporteurs

3. Review 2019 Annual Stock Assessment and Fishery Evaluation (SAFE) Report Modules

A. Fishery Data Modules

i. American Samoa

ii. CNMI

iii. Guam

iv. Hawaii

v. International

vi. Recreational/Non-Commercial Fisheries

B. Ecosystem Chapter

i. Environmental & Climate Variables

ii. Habitat

iii. Marine Planning

4. Public Comment

Thursday, May 7, 2020, 1 p.m. to 5 p.m. HST (12 p.m. to 4 p.m. SST; Friday, May 8, 2020, 9 a.m. to 1 p.m. ChST)

5. Continued: Review 2019 Annual SAFE Report Modules

B. Ecosystem Chapter

iv. Socioeconomics

v. Protected Species

6. SAFE Report Discussion

A. Discussion: Data Integration

B. Web-Interface of the Annual SAFE Report

C. 2019 Report Region Wide Improvements & Recommendations

7. Impacts of COVID-19 on Pelagic Fisheries

8. Community Participation in Hawaii Commercial Pelagic Fisheries

9. Pelagics FEP Council Action Items

A. Electronic Reporting in Hawaii Longline Fishery

B. Hawaii Small-boat Fishery Management

C. Requirements for October 1 Start-date for Shallow-set Longline Fishery

10. Public Comment

Friday, May 8, 2020, 1 p.m. to 5 p.m. HST (12 p.m. to 4 p.m. SST; Saturday, May 9, 2020, 9 a.m. to 1 p.m. ChST)

11. Status of Endangered Species Act Consultations and Development of Reasonable and Prudent Measures (RPMs) for the Hawaii Deep-Set and American Samoa Longline Fisheries

12. Hawaii Shallow-Set Longline Fishery RPM Working Group

13. Transformative Ecosystem-Based Management Workshop

14. Update on Seabird Mitigation Measures

15. Standardized Bycatch Reporting Methodology

16. Workshop on Area-Based Management of Blue Water Fisheries

17. Pelagic Plan Team Recommendations

18. Public Comment

19. Other Business

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: April 15, 2020.
Tracey L. Thompson,
Acting Deputy Director, Office of Sustainable Fisheries, National Marine Fisheries Service.

[FR Doc. 2020-08267 Filed 4-17-20; 8:45 am]

BILLING CODE 3510-22-P